DEPARTMENT OF TRANSPORTATION

Federal Aviation Administration

14 CFR Part 71

[Docket No. FAA-2017-0986; Airspace Docket No. 17-ANM-16]

Amendment of Class D and Class E Airspace; Lewiston, ID

AGENCY: Federal Aviation Administration (FAA), DOT.

ACTION: Final rule.

SUMMARY: This actions amends controlled airspace at Lewiston-Nez Perce County Airport, Lewiston, ID, by enlarging Class D airspace, and Class E surface airspace, and reducing Class E airspace designated as an extension, and Class E airspace extending upward from 700 feet above the surface. Also, this action removes the part-time Notice to Airmen (NOTAM) status from Class E airspace designated as an extension. Additionally, an editorial change is made to the legal descriptions replacing “Airport/Facility Directory” with the term “Chart Supplement”. This action enhances safety and management of instrument flight rules (IFR) operations at the airport.

DATES: Effective 0901 UTC, May 24, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of this material at NARA, call (202) 741-6030, or go to https://www.archives.gov/federal-register/cfr/ibr-locations.html.

FAA Order 7400.11, Airspace Designations and Reporting Points, is published yearly and effective on September 15.

FOR FURTHER INFORMATION CONTACT: Tom Clark, Federal Aviation Administration, Operations Support Group, Western Service Center, 2200 S. 216th Street, Des Moines, WA 98198; telephone (206) 231-2253.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D and E airspace at Lewiston-Nez Perce County Airport, Lewiston, ID, in support of IFR operations at the airport.

History

The FAA published in the Federal Register (82 FR 57558; December 6, 2017) for Docket FAA-2017-0986, a notice of proposed rulemaking to modify Class D airspace, Class E surface area airspace, Class E airspace designated as an extension, and Class E airspace extending upward from 700 feet above the surface at Lewiston-Nez Perce County Airport, Lewiston, ID. Interested parties were invited to participate in this rulemaking effort by submitting written comments on the proposal to the FAA. One comment was received.

Discussion of Comments

The commenter objected to the expansion of Class D airspace based on a belief that the FAA erred in calculating the Class D area radius as described in FAA Order 7400.2K, Procedures for Handling Airspace Matters, Chapter 17, Figure 17-2-1, specifically by enlarging the Class D area from a 4.1-mile radius to a 4.3-mile radius. After a second review, the FAA agrees a 4.1-mile radius for some areas of the Class D is sufficient. The proposed enlargement of Class D airspace to a 4.3-mile radius was not based on Figure 17-2-1, but instead was intended to contain all IFR circling aircraft utilizing an expanded circling approach maneuvering airspace radius. After a second review the FAA has determined the proposed Class D airspace east, southeast, and west would adequately contain the circling aircraft. The FAA will therefore preserve Class D airspace within a 4.1-mile radius of the airport where additional airspace is not required.

The commenter also objected to the proposed expansion of Class D airspace greater than 2 miles beyond the 4.1-mile radius based on FAA Order 7400.2K paragraph 17-2-7 (d) ARRIVAL EXTENSIONS, stating all extensions should be Class E. The FAA does not agree. The proposed expansion areas of Class D airspace east, southeast, and west are not arrival extensions, but are designed to contain the specific departure procedures for the airport in accordance with paragraph 17-2-6 DEPARTURES. The expanded areas are therefore a part of the Class D and should not be Class E extensions.

The commenter also states that “Class D should be a basic round circle”. The FAA does not agree. Paragraph 17-2-1 CONFIGURATION states that the Class D size and shape may vary to allow for safe and efficient handling of operations, and must be sized to contain the intended operations. Use of a basic circle of Class D airspace would result in an excessive degree of airspace restriction. The shape of the proposed Class D airspace area is designed to contain the existing IFR operations at the airport with a minimum of airspace restriction, thereby protecting the public's right to freedom of transit.

Lastly, the commenter suggests the FAA has not complied with paragraph 17-1-2, REGIONAL/SERVICE AREA OFFICE EVALUATION, by failing to follow the policies and procedures within FAA Order 7400.2L. The FAA does not agree. The proposed airspace modifications were designed based on the requirements contained within FAA Order 7400.2L. This action by its very nature is intended to ensure the airspace configuration at Lewiston-Nez Perce County Airport, Lewiston, ID is in compliance with FAA policies and guidelines.

Class D and E airspace designations are published in paragraph 5000, 6002, 6004, and 6005, respectively, of FAA Order 7400.11B, dated August 3, 2017, and effective September 15, 2017, which is incorporated by reference in 14 CFR 71.1. The Class D and E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14 Code of Federal Regulations (14 CFR) part 71 by modifying Class D airspace, Class E airspace designated as a surface area, Class E airspace designated as an extension, and Class E airspace extending upward from 700 feet above the surface at Lewiston-Nez Perce County Airport, Lewiston, ID. This airspace redesign is necessary for the safety and management of instrument flight rules operations at the airport.

Class D and Class E surface area airspace are amended to within a 4.1-mile radius of the airport (no change) from the airport 290° bearing clockwise to the airport 066° bearing; and within a 5.1-mile radius of the airport (from the 4.1-mile radius) from the airport 066° bearing clockwise to the airport 115° bearing; and within a 6.6-mile radius of the airport (from the 4.1-mile radius) from the airport 115° bearing clockwise to the airport 164° bearing; and within a 4.3-mile radius of the airport (from the 4.1-mile radius) from the airport 164° bearing clockwise to the airport 230° bearing; and within a 6.6-mile radius of the airport (from the 4.1-mile radius) from the airport 230° bearing clockwise to the airport 290° bearing. Also, the class D airspace extending upward from the surface is reduced to up to and including 2,700 feet MSL (from 3,900 feet).

Class E airspace designated as an extension is modified to within 1.0 mile each side of the 100° bearing from the airport extending from the 5.1-mile radius of the airport to 7.9 miles east of the airport (from 2.7 miles each side of the Lewiston-Nez Perce ILS localizer course extending from the 4.1-mile radius of the airport to 14 miles east), and within 1.0 mile each side of the 313° bearing from the airport extending from the airport 4.1-mile radius to 6.1 miles northwest of the airport (from 3.5 miles each side of the Nez Perce VOR/DME 266° radial extending from the 4.1-mile radius of the airport to 13.1 miles west of the airport). Also, the part-time Notice to Airmen (NOTAM) status is removed.

Class E airspace extending upward from 700 feet above the surface is modified to within a 6.3-mile radius of the airport, and within 8.5 miles north and 4.3 miles south of the airport 099° and 279° bearings extending to 27.8 miles east and 22.5 miles west of the airport (from an irregularly shaped polygon generally extending to 19 miles northeast, 24 miles east, 19 miles southeast, and 25 miles west).

Additionally, this action replaces the term “Airport/Facility Directory” with the term “Chart Supplement” in the Class D and Class E surface airspace.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ANM ID D Lewiston, ID [Amended]

Lewiston-Nez Perce County Airport, ID

(Lat. 46°22′28″ N, long. 117°00′55″ W)

That airspace extending upward from the surface to and including 2,700 feet MSL within a 4.1-mile radius from Lewiston-Nez Perce County Airport clockwise from the airport 290° bearing to the 066° bearing, and within a 5.1-mile radius of the airport from the 066° bearing to the airport 115° bearing and within a 6.6-mile radius of the airport from the 115° bearing to the airport 164° bearing, and within a 4.1-mile radius of the airport from the airport 164° bearing to the airport 230° bearing, and within a 6.6-mile radius of the airport from the 230° bearing to the airport 290° bearing. This Class D airspace area is effective during the specific dates and times established in advance by a Notice to Airmen. The effective date and time will thereafter be continuously published in the Chart Supplement.

Paragraph 6002 Class E Airspace Designated as Surface Areas

* * * * *

ANM ID E2 Lewiston, ID [Amended]

Lewiston-Nez Perce County Airport, ID

(Lat. 46°22′28″ N, long. 117°00′55″ W)

That airspace extending upward from the surface within a 4.1-mile radius from the Lewiston-Nez Perce County Airport clockwise from the airport 290° bearing to the 066° bearing, and within a 5.1-mile radius of the airport from the 066° bearing to the airport 115° bearing and within a 6.6-mile radius of the airport from the 115° bearing to the airport 164° bearing, and within a 4.1-mile radius of the airport from the airport 164° bearing to the airport 230° bearing, and within a 6.6-mile radius of the airport from the 230° bearing to the airport 290° bearing. This Class E airspace area is effective during the specific dates and times established in advance by a Notice to Airmen. The effective date and time will thereafter be continuously published in the Chart Supplement.

Paragraph 6004 Class E Airspace Designated as an Extension to a Class D or Class E Surface Area

* * * * *

ANM ID E4 Lewiston, ID [Amended]

Lewiston-Nez Perce County Airport, ID

(Lat. 46°22′28″ N, long. 117°00′55″ W)

That airspace within one mile each side of the 100° bearing from the Lewiston-Nez Perce County Airport extending from the airport 5.1-mile radius to 7.9 miles east of the airport, and within 1.0 mile each side of the 313° bearing from the airport extending from the airport 4.1-mile radius to 6.1 miles northwest of the airport.

Paragraph 6005 Class E Airspace Areas Extending Upward From 700 Feet or More Above the Surface of the Earth

* * * * *

ANM ID E5 Lewiston, ID [Amended]

Lewiston-Nez Perce County Airport, ID

(Lat. 46°22′28″ N, long. 117°00′55″ W)

That airspace upward from 700 feet above the surface within a 6.3-mile radius of Lewiston-Nez Perce County Airport, and within 8.5 miles north and 4.3 miles south of the airport 099° and 279° bearings extending to 27.8 miles east and 22.5 miles west of the airport; that airspace extending upward from 1,200 feet above the surface within a 62-mile radius of the Lewiston-Nez Perce County Airport, and within 24 miles each side of the 056° bearing from the airport extending from the 62-mile radius to 92 miles northeast of the airport.

Issued in Seattle, Washington, on March 5, 2018.
Shawn M. Kozica,
Manager, Operations Support Group, Western Service Center.

[FR Doc. 2018-05049 Filed 3-14-18; 8:45 am]

BILLING CODE 4910-13-P